DEPARTMENT OF HOMELAND SECURITY

U.S. Customs and Border Protection

Approval of Coastal Gulf and International (Corpus Christi, TX) as a Commercial Gauger

AGENCY: U.S. Customs and Border Protection, Department of Homeland Security.

ACTION: Notice of approval of Coastal Gulf and International (Corpus Christi, TX), as a commercial gauger.

SUMMARY: Notice is hereby given, pursuant to CBP regulations, that Coastal Gulf and International (Corpus Christi, TX) has been approved to gauge petroleum and certain petroleum products for customs purposes for the next four years as of May 18, 2022.

DATES: Coastal Gulf and International (Corpus Christi, TX) was approved as a commercial gauger as of May 18, 2022. The next inspection date will be scheduled for May 2026.

FOR FURTHER INFORMATION CONTACT: Dr. Justin Shey, Laboratories and Scientific Services Directorate, U.S. Customs and Border Protection, 1300 Pennsylvania Avenue NW, Suite 1501-A North, Washington, DC 20229, tel. 202-344-1060.

SUPPLEMENTARY INFORMATION: Notice is hereby given pursuant to 19 CFR 151.13, that Coastal Gulf and International, 4738 Neptune Dr., Corpus Christi, TX 78405, has been approved to gauge petroleum and certain petroleum products for customs purposes, in accordance with the provisions of 19 CFR 151.13 as of May 18, 2022.¹

¹ As a result of the SARS-CoV-2 (COVID-19) pandemic, Laboratories and Scientific Services implemented a one-time quadrennial timeframe for reoccurring audits originally scheduled to take place in 2020, 2021, and 2022. This postponed the scheduled deadline for audits and the payment of reaccreditation or reapproval fees by one year, after which audits will return to a triennial schedule. See 19 U.S.C. 1499; Presidential Proclamation 9994, 85 FR 15337 (March 13, 2020); Executive Order 13924, 85 FR 31353 (May 19, 2020); and U.S. Customs & Border Protection, COVID-19 Laboratory and Gauger Postponement Letter (May 26, 2021), https://www.cbp.gov/document/guidance/covid-19-gauger-postponement-letter.

Coastal Gulf and International (Corpus Christi, TX) is approved for the following gauging procedures for petroleum and certain petroleum products from the American Petroleum Institute (API):

API chapters | Title
3 | Tank Gauging.
7 | Temperature Determination.
8 | Sampling.
12 | Calculations.
17 | Marine Measurement.

Anyone wishing to employ this entity to conduct gauger services should request and receive written assurances from the entity that it is approved by the U.S. Customs and Border Protection to conduct the specific gauger service requested. Alternatively, inquiries regarding the specific gauger service this entity is approved to perform may be directed to the U.S. Customs and Border Protection by calling (202) 344-1060. The inquiry may also be sent to CBPGaugersLabs@cbp.dhs.gov. Please reference the website listed below for a complete listing of CBP approved gaugers and accredited laboratories. http://www.cbp.gov/about/labs-scientific/commercial-gaugers-and-laboratories.

James D. Sweet,
Laboratory Director, Houston, Laboratories and Scientific Services Directorate.

[FR Doc. 2023-21206 Filed 9-27-23; 8:45 am]

BILLING CODE 9111-14-P